DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by March 29, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531, et seq.). Written data, comments, or requests for copies of these complete applications should be submitted to the Director (address above).

Applicant: Steven R. Leigh, Urbana, IL, PRT-079994.

The applicant requests a permit to import biological samples from mandrill (Mandrillus sphinx) collected from a semifree-ranging colony in Gabon, for scientific research. This notification covers activities to be conducted by the applicant over a five-year period.

Applicant: Mitchel Kalmanson, World Wide Exotic Talent Agency, Maitland, FL, PRT-079894.

The applicant requests a permit to export two male and two female captive-born tigers (Panthera tigris) to Deep Down Discovery/Ocean World, Puerto Plata, Dominican Republic, for the purpose of enhancement of the species through conservation education.

Marine Mammals

The public is invited to comment on the following applications for a permit to conduct certain activities with marine mammals. The applications were submitted to satisfy requirements of the Marine Mammal Protection Act of 1972, as amended (16 U.S.C. 1361 et seq.), and the regulations governing marine mammals (50 CFR Part 18). Written data, comments, or requests for copies of the complete applications or requests for a public hearing on these applications should be submitted to the Director (address above). Anyone requesting a hearing should give specific reasons why a hearing would be appropriate. The holding of such a hearing is at the discretion of the Director.

Applicant: Allen Dearmond, Baton Rouge, LA, PRT-083232 and 083284.

The applicant requests permits to import two polar bears (Ursus maritimus) sport hunted from the Western Hudson Bay polar bear population in Canada for personal use.

Dated: February 13, 2004.
Michael S. Moore,
Senior Permit Biologist, Branch of Permits, Division of Management Authority.

[FR Doc. 04-4294 Filed 2-25-04; 8:45 am]

BILLING CODE 4310-55-P